ENVIRONMENTAL PROTECTION AGENCY

[ER-FRL-6664-6]

Environmental Impacts Statements; Notice of Availability

Responsible Agency: Office of Federal Activities, General Information (202) 564-7167 or http://www.epa.gov/compliance/nepa/.

Weekly receipt of Environmental Impact Statements

Filed 06/13/2005 Through 06/17/2005

Pursuant to 40 CFR 1506.9.

EIS No. 20050244, Final Supplement, NPS, CA, Merced Wild and Scenic River Revised Comprehensive Management Plan, Amend and Supplement Information, Yosemite National Park, El Portal Administrative Site, Tuolume, Merced, Mono, Mariposa and Madera Counties, CA, Wait Period Ends: 07/25/2005, Contact: Mark Butler 209-379-1371.

EIS No. 20050245, Final EIS, COE, CA, Prado Basin Water Supply Feasibility Study, To Increase Conservation of Surplus Water at Prado Dam and Flood Control Basin, Orange County Water District, Orange, Riverside and San Bernardio Counties, CA, Wait Period Ends: 07/25/2005, Contact: Alex Watt 213-452-3860.

EIS No. 20050246, Final EIS, COE, NE, Cornhusker Army Ammunition Plant (CHAAP) Land Disposal Industrial Tracts, Proposed Disposal and Reuse of Tracts 32, 33, 34, 35, 36, 47, 61, 62, Hall County, NE, Wait Period Ends: 07/25/2005, Contact: Randal P. Sellers 402-221-3054.

EIS No. 20050247, Draft EIS, SFW, AZ, Cabeza Prieta National Wildlife Refuge, Comprehensive Conservation Plan, Wilderness Stewardship Plan, Implementation, Ajo, AZ, Comment Period Ends: 08/15/2005, Contact: John Slown 505-248-7458.

EIS No. 20050248, Draft EIS, COE, TX, Upper Trinity River Basin Project, To Provide Flood Damage Reduction, Ecosystem Improvement, Recreation and Urban Revitalization, Trinity River, Central City, Forth Worth, Tarrant County, TX, Comment Period Ends: 08/08/2005, Contact: Dr. Rebecca Griffith 817-886-1820.

EIS No. 20050249, Draft EIS, BLM, ID, Cotterel Wind Power Project and Draft Resource Management Plan Amendment, To Build a 190-240 megawatt, Wind-Powered Electrical Generation Facility, Right-of-Way Application, City of Burley, Towns of Albion and Malta, Cassia County, ID, Comment Period Ends: 09/22/2005, Contact: Scott Barker 208-677-6699.

EIS No. 20050250, Draft EIS, AFS, OR, Ashland Forest Resiliency Project, To Recover from Large-Scale High-Severity Wild Land Fire, Upper Bear Analysis Area, Ashland Ranger District, Rogue River-Siskiyou National Forest, Jackson County, OR, Comment Period Ends: 08/08/2005, Contact: Linda Duffy 541-552-2900.

EIS No. 20050251, Draft EIS, AFS, CA, Watdog Project, Proposes to Reduce Fire Hazards, Harvest Trees, Using Group Selection Methods, Feather River Ranger District, Plumas National Forest, Butte and Plumas Counties, CA, Comment Period Ends: 08/08/2005, Contact: Katherine Worn 530-534-6500.

EIS No. 20050252, Final EIS, NPS, CO, Colorado National Monument General Management Plan, Implementation, Mesa County, CO, Wait Period Ends: 07/25/2005, Contact: Bruce Noble 970-858-3617, Ext. 300.

EIS No. 20050253, Draft Supplement, COE, MD, Poplar Island Restoration Project (PIERP) To Evaluate the Vertical and/or Lateral Expansion, Dredging Construction and Placement of Dredged Materials, Chesapeake Bay, Talbot County, MD, Comment Period Ends: 08/08/2005, Contact: Mark Mendelsohn 410-962-9499.

EIS No. 20050254, Final Supplement, NOA, 00, Amendment to the Fishery Management Plans (FMPs), Amendment 2 for the Spiny Lobster Fishery; Amendment 1 for the Queen Conch Resources; Amendment 3 for the Reef Fish Fishery; Amendment 2 Corals and Reef Associated Invertebrates, U. S. Carbbean to Address Required Provisions MSFCMA, Puerto Rico and the U.S. Virgin Island, Wait Period Ends: 07/25/2005, Contact: Dr. Roy Crabtree 727-824-5301.

EIS No. 20050255, Final EIS, BLM, 00, Programmatic—Wind Energy Development Program, To Address Stewardship, Conservation and Resource Use on BLM-Administered Lands, Right-of-Way Grants, Western United States, Wait Period Ends: 07/25/2005, Contact: Ray Brady 202-452-7773.

Dated: June 21, 2005.
Robert W. Hargrove,
Director, NEPA Compliance Division, Office of Federal Activities.

[FR Doc. 05-12529 Filed 6-23-05; 8:45 am]

BILLING CODE 6560-50-P